DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from January 12 to January 16, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: February 24, 2009.
J. Paul Loether,
Chief, National Register of Historic Places/National Historic Landmarks Program.

KEY: State, County, Property Name, Address/Boundary, City, Vicinity, Reference Number, Action, Date, Multiple Name

Arizona, Apache County, Sage Memorial School of Nursing, Ganado Mission, Jct. AZ 264 and 291, Navajo Reservation, Ganado, 09000082, Listed, 1/16/09

Arizona, Cochise County, Fry Pioneer Cemetery, Between 6th and 7th Sts., a half block N. of Fry Blvd., Sierra Vista, 08001312, Listed, 1/15/09

Arizona, Maricopa County, Bragg's Pies Building, 1301 Grand Ave., Phoenix, 08001313, Listed, 1/16/09

California, Tuolumne County, Stanislaus Branch, California Forest and Range Experiment Station, Forest Rd. 4N13B, Strawberry, 08001315, Listed, 1/15/09

Colorado, El Paso County, Chadbourn Spanish Gospel Mission, 402 S. Conejos St., Colorado Springs, 08001316, Listed, 1/14/09

Colorado, Montezuma County, Montezuma Valley National Bank and Store Building, 2-8 Main St., Cortez, 08001317, Listed, 1/15/09

Georgia, Cook County, United States Post Office-Adel, Georgia, 115 E. 4th St., Adel, 08001319, Listed, 1/15/09

Georgia, Jefferson County, Bartow Historic District, Roughly centered along U.S. Hwy. 221, U.S. Hwy. 319 and the CSX rail line, Bartow, 08001320, Listed, 1/13/09

Kansas, Rice County, Beckett, Charles K., House, 210 W. Main, Sterling, 08001350, Listed, 1/16/09

Kansas, Shawnee County, Hopkins House, 6033 SE U.S. Hwy. 40, Tecumseh, 08001353, Listed, 1/16/09

Massachusetts, Essex County, Joffre, (shipwreck), Address Restricted, Massachusetts, 08000887, Listed, 1/16/09 (Eastern Rig Dragger Fishing Vessel Shipwrecks in the Stellwagen Bank National Marine Sanctuary)

Missouri, Greene County, St. Paul Block, 401 S. Ave., Springfield, 08001322, Listed, 1/15/09 (Springfield, Missouri MPS AD)

Missouri, Pemiscot County, Delmo Community Center, 1 Delmo St., Homestown, 08001323, Listed, 1/15/09

Montana, Custer County, Holy Rosary Hospital, 310 N. Jordan and 2007 Clark St., Miles City, 08001324, Listed, 1/15/09

Montana, Lake County, Olsson, Don E., House and Garage, 503 4th Ave. SW., Ronan, 08001325, Listed, 1/15/09

Pennsylvania, Philadelphia County, Alfred Newton Richards Medical Research Laboratories and David Goddard Laboratories Buildings, 33700-3710 Hamilton Walk, University of Pennsylvania, Philadelphia, 09000081, Listed, 1/16/09

Pennsylvania, York County, Leibhart, Byrd, Site (36YO170), Address Restricted, Long Level vicinity, 84003955, Listed, 1/14/09

Wisconsin, Ashland County, Big Bay Sloop shipwreck (sloop), Address Restricted, La Pointe, 08001327, Listed, 1/14/09 (Great Lakes Shipwreck Sites of Wisconsin MPS)

Wisconsin, Columbia County, Bacon, Clara F., House, 509 Madison Ave., Lodi, 08001328, Listed, 1/14/09

Wisconsin, Columbia County, Lewis, Frank T. and Polly, House, 509 N. Main St., Lodi, 08001329, Listed, 1/14/09

Wisconsin, Manitowoc County, Continental shipwreck (bulk carrier), Address Restricted, Two Rivers vicinity, 08001330, Listed, 1/14/09 (Great Lakes Shipwreck Sites of Wisconsin MPS)

Wisconsin, Milwaukee County, Lumberman shipwreck (schooner), Address Restricted, Oak Creek vicinity, 08001331, Listed, 1/14/09 (Great Lakes Shipwreck Sites of Wisconsin MPS)

[FR Doc. E9-4278 Filed 2-27-09; 8:45 am]

BILLING CODE 4310-70-P